DEPARTMENT OF JUSTICE

Notice of Lodging of Consent Decree Pursuant to the Clean Water Act

In accordance with Departmental policy, 28 CFR 50.7, notice is hereby given that a proposed consent decree in United States v. Barretts Minerals Inc., Civil Action No. 02-62-M-DWM, was lodged with the United States Court for the District of Montana on April 9, 2002.

The consent decree resolves claims pursuant to section 309(d) of the Clean Water Act, 33 U.S.C. 1319(d), for past violations of permit limits for nitrate plus nitrite and total suspended solids, and for failures to monitor stream flow rates. The decree obligates defendant Barretts to pay a civil penalty of $40,000. The decree also requires that Barretts expend at least $74,000 to implement a supplemental environmental project consisting of rehabilitation of a roadway along Stone Creek, in Madison County, Montana, to control stormwater run-off and sediment deposition.

The Department of Justice will receive, for a period of thirty (30) days from the date of this publication, comments relating to the proposed consent decree. Comments should be addressed to the Assistant Attorney General for the Environment and Natural Resources Division, Department of Justice, Washington, DC 20530. Each communication should refer on its face to United States v. Barretts Minerals Inc., DOJ # 90-5-1-1-06884.

The proposed consent decree may be examined at the office of the United States Attorney for the District of Montana, 105 East Pine Street, Missoula, MT 59601; and the Region VIII Office of the Environmental Protection Agency, 999 18th Street, Suite 500, Denver, CO 80202. A copy of the proposed consent decree may be obtained by faxing a request to Tonia Fleetwood, Department of Justice Consent Decree Library, fax number (202) 616-6584; phone confirmation (202) 514-1547. In requesting a copy, please forward the request and a check in the amount of $8.75 (25 cents per page reproduction cost) payable to the U.S. Treasury, referencing the DOJ Consent Decree Library, United States v. Barretts Minerals Inc., DOJ #90-5-1-1-06884, to the first-class mail address listed above.

Robert Brook,
Assistant Section Chief, Environmental Enforcement Section, Environment and Natural Resources Division.

[FR Doc. 02-10815 Filed 5-1-02; 8:45 am]

BILLING CODE 4410-15-M